DEPARTMENT OF AGRICULTURE

Animal and Plant Health Inspection Service

[Docket No. APHIS-2011-0031]

Notice of Availability of Pest Risk Analyses for the Importation of Fresh Pitaya and Pomegranates From Mexico Into the Continental United States

AGENCY: Animal and Plant Health Inspection Service, USDA.

ACTION: Notice.

SUMMARY: We are advising the public that we have prepared pest risk analyses that evaluate the risks associated with the importation into the continental United States of fresh pitaya and pomegranates from Mexico. Based on these analyses, we believe that the application of one or more designated phytosanitary measures will be sufficient to mitigate the risks of introducing or disseminating plant pests or noxious weeds via the importation of fresh pitaya and pomegranates from Mexico. We are making the pest risk analyses available to the public for review and comment.

DATES: We will consider all comments that we receive on or before October 3, 2011.

ADDRESSES: You may submit comments by either of the following methods:

• Federal eRulemaking Portal: Go to http://www.regulations.gov/#!documentDetail;D=APHIS-2011-0031-0001.

• Postal Mail/Commercial Delivery: Send your comment to Docket No. APHIS-2011-0031, Regulatory Analysis and Development, PPD, APHIS, Station 3A-03.8, 4700 River Road Unit 118, Riverdale, MD 20737-1238.

Supporting documents and any comments we receive on this docket may be viewed at http://www.regulations.gov/#!docketDetail;D=APHIS-2011-0031 or in our reading room, which is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Marc Phillips, Regulatory Policy Specialist, Regulations, Permits, and Import Manuals, PPQ, APHIS, 4700 River Road Unit 133, Riverdale, MD 20737-1231; (301) 734-4394.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 contains a performance-based process for approving the importation of commodities that, based on the findings of a pest-risk analysis, can be safely imported subject to one or more of the designated phytosanitary measures listed in paragraph (b) of that section.

APHIS received requests from the Government of Mexico to allow the importation of fresh pitaya (Hylocereus spp.) and pomegranates (Punica granatum L.) into the continental United States. We have completed pest lists for these commodities to identify pests of quarantine significance that could follow the pathway of importation into the continental United States and, based on these lists, have prepared risk management documents to identify phytosanitary measures that could be applied to fresh pitaya and pomegranates from Mexico to mitigate the pest risk. We have concluded that fresh pitaya and pomegranates can be safely imported into the continental United States from Mexico using one or more of the five designated phytosanitary measures listed in § 319.56-4(b). These measures are:

• The pitaya and pomegranates may be imported into the continental United States in commercial consignments only.

• The pitaya and pomegranates must be irradiated in accordance with 7 CFR part 305 with a minimum absorbed dose of 150 Gy.

• If the irradiation treatment is applied outside the United States, each consignment of fruit must be jointly inspected by APHIS and the national plant protection organization (NPPO) of Mexico and accompanied by a phytosanitary certificate (PC) attesting that the fruit received the required irradiation treatment.

• If the irradiation treatment is applied upon arrival in the United States, each consignment of fruit must be inspected by the NPPO of Mexico prior to departure. For consignments of pitaya, the inspection must include a sampling procedure mutually agreed upon by APHIS and the NPPO of Mexico.

• For consignments of pitaya, the PC must also include an additional declaration stating that the consignment was inspected and found free of Milax spp., Dysmicoccus neobrevipes, Euschistus servus, Maracayia chlorisalis, and Planococcus minor. For pomegranates, the PC must also include an additional declaration stating that the consignment was inspected and found free of Aleyrodidae, Coccidae, and Pseudococcidae.

• The commodity is subject to inspection at the U.S. ports of entry.

Therefore, in accordance with § 319.56-4(c), we are announcing the availability of our pest risk analyses for public review and comment. The pest risk analyses may be viewed on the Regulations.gov Web site or in our reading room (see ADDRESSES above for a link to Regulations.gov and information on the location and hours of the reading room). You may request paper copies of the pest risk analyses by calling or writing to the person listed under FOR FURTHER INFORMATION CONTACT. Please refer to the subject of the pest risk analysis you wish to review when requesting copies.

After reviewing any comments we receive, we will announce our decision regarding the import status of fresh pitaya and pomegranates from Mexico in a subsequent notice. If the overall conclusions of the analysis and the Administrator's determination of risk remain unchanged following our consideration of the comments, then we will authorize the importation of fresh pitaya and pomegranates from Mexico into the continental United States subject to the requirements specified in the risk management documents.

Authority: 7 U.S.C. 450, 7701-7772, and 7781-7786; 21 U.S.C. 136 and 136a; 7 CFR 2.22, 2.80, and 371.3.

Done in Washington, DC, this 28th day of July 2011.
Kevin Shea,
Acting Administrator, Animal and Plant Health Inspection Service.

[FR Doc. 2011-19501 Filed 8-1-11; 8:45 am]

BILLING CODE 3410-34-P